DEPARTMENT OF LABOR

Employment and Training Administration

[TA-W-81,067]

Johnson Controls, Inc. Including On-Site Leased Workers of Valley Staffing and AZ Quality Hudson, Wisconsin; Amended Certification Regarding Eligibility To Apply for Worker Adjustment Assistance

In accordance with Section 223 of the Trade Act of 1974, as amended (“Act”), 19 U.S.C. 2273, the Department of Labor issued a Certification of Eligibility to Apply for Worker Adjustment Assistance on February 15, 2012, applicable to workers and former workers of Johnson Controls, Inc., including on-site leased workers from Valley Staffing, Hudson, Wisconsin (subject firm). The Department's notice of determination was published in the Federal Register on March 6, 2012 (77 FR 13354). The workers were engaged in the production of automotive seating.

At the request of the State Workforce Office, the Department reviewed the certification for workers of the subject firm. The company reports that workers leased from AZ Quality were employed on-site at the Hudson, Wisconsin location of Johnson Controls, Inc.

The Department has determined that these workers were sufficiently under the control of the subject firm to be considered leased workers.

Based on these findings, the Department is amending this certification to include workers leased from AZ Quality working on-site at the Hudson, Wisconsin location of Johnson Controls, Inc.

The amended notice applicable to TA-W-81,067 is hereby issued as follows:

“All workers of Johnson Controls, Inc., including on-site leased workers of Valley Staffing and AZ Quality, Hudson, Wisconsin, who became totally or partially separated from employment on or after February 13, 2010, through February 15, 2014, and all workers in the group threatened with total or partial separation from employment on the date of certification through two years from the date of certification, are eligible to apply for adjustment assistance under Chapter 2 of Title II of the Trade Act of 1974, as amended.”

Signed in Washington, DC, this 9th day of May, 2012.
Del Min Amy Chen,
Certifying Officer, Office of Trade Adjustment Assistance.

[FR Doc. 2012-25528 Filed 10-16-12; 8:45 am]

BILLING CODE 4510-FN-P